DEPARTMENT OF HOMELAND SECURITY

Coast Guard

46 CFR Part 401

[USCG-2002-11288]

RIN 1625-AA38 (Formerly RIN 2115-AG30)

Rates for Pilotage on the Great Lakes

Correction

In rule document 05-4586 beginning on page 12082 in the issue of Thursday, March 10, 2005, make the following corrections:

1. On page 12090, in the third column, in paragraph (3), in the fourth line, “accountant?s” should read “accountant's.”

2. On the same page, the table SUMMARY OF EXPENSE ADJUSTMENTS is corrected in part to read as follows:

| District one | District two | District three
SUMMARY OF EXPENSE ADJUSTMENTS
* * * * * * *
APA/Masters, Mates, & Pilots dues |  |  | (26,210) (6,600)
* * * * * * *

[FR Doc. C5-4586 Filed 3-18-05; 8:45 am]

BILLING CODE 1505-01-D